DEPARTMENT OF TRANSPORTATION

Federal Aviation Administration

14 CFR Part 71

[Docket No. FAA-2003-14673; Airspace Docket No. 03-ASO-2]

Establishment of Class E2 Airspace; Elizabeth City, NC; Correction

AGENCY: Federal Aviation Administration (FAA), DOT.

ACTION: Correcting amendment.

SUMMARY: This document contains a correction to the final rule (FAA-2003-14673; 03-ASO-2), which was published in the Federal Register on May 23, 2003 (68 FR 28128), establishing Class E2 airspace at Elizabeth City, NC. This action corrects an error in the legal description for the Class E2 airspace at Elizabeth City CGAS/Regional Airport, NC.

EFFECTIVE DATE: Effective 0901 UTC, July 10, 2003.

FOR FURTHER INFORMATION CONTACT: Walter R. Cochran, Manager, Airspace Branch, Air Traffic Division, Federal Aviation Administration, P.O. Box 20636, Atlanta, Georgia 30320; telephone (404) 305-5627.

SUPPLEMENTARY INFORMATION:

Background

Federal Register Document 03-12816, Docket No. FAA-2003-14673; Airspace Docket 03-ASO-2, published on May 23, 2003, (68 FR 28128), establishes Class E2 airspace at Elizabeth City CGAS/Regional Airport, NC. An error was discovered in the legal description, describing the Class E2 airspace area. The name of the airport should be changed from Elizabeth City CGAS/Municipal Airport to Elizabeth City CGAS/Regional Airport. This action corrects the error.

Designations for Class E airspace areas designated as surface areas are published in Paragraph 6002 of FAA Order 7400.9k, dated August 30, 2002, and effective September 16, 2002, which is incorporated by reference in 14 CFR 71.1. The Class E airspace designation listed in this document will be published subsequently in the Order.

Need for Correction

As published, the final rule contains an error which incorrectly identifies the name of the airport. Accordingly, pursuant to the authority delegated to me, the legal description for the Class E2 airspace area at Elizabeth City, NC, incorporated by reference at § 71.1, 14 CFR 71.1, and published in the Federal Register on May 23, 2003, (68 FR 28128), is corrected by making the following correcting amendment.

List of Subjects in 14 CFR Part 71

Airspace, Incorporation by reference, Navigation (air).

In consideration of the foregoing, the Federal Aviation Administration corrects the adopted amendment, 14 CFR part 71, by making the following correcting amendment:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., p. 389.

§ 71.1 [Corrected]

2. The incorporation by reference in 14 CFR 71.1 of Federal Aviation Administration Order 7400.9K, Airspace Designations and Reporting Points, dated August 30, 2002, and effective September 16, 2002, is amended as follows:

Paragraph 6002 Class E Airspace Designated as Surface Areas.

* * * * *

ASO MS E2 Elizabeth City, NC [Corrected]

Elizabeth City CGAS/Regional Airport, NC

(Lat. 36°15′38′′ long. 76°10′29′′)

That airspace extending upward from the surface within a 4.1-mile radius of the Elizabeth City CGAS/Regional Airport.

* * * * *

Issued in College Park, Georgia, May 28, 2003.
Walter R. Cochran,
Acting Manager, Air Traffic Division, Southern Region.

[FR Doc. 03-14071 Filed 6-3-03; 8:45 am]

BILLING CODE 4910-13-M